SMALL BUSINESS ADMINISTRATION

[Disaster Declaration #14665 and #14666]

Virginia Disaster Number VA-00063

AGENCY: U.S. Small Business Administration.

ACTION: Amendment 1.

SUMMARY: This is an amendment of the Presidential declaration of a major disaster for Public Assistance Only for the Commonwealth of VIRGINIA (FEMA-4262-DR), dated 03/07/2016.

Incident: Severe Winter Storm and Snowstorm.

Incident Period: 01/22/2016 through 01/23/2016.

DATES: Effective 04/11/2016.

Physical Loan Application Deadline Date: 05/06/2016.

Economic Injury (EIDL) Loan Application Deadline Date: 12/07/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the Commonwealth of VIRGINIA, dated 03/07/2016, is hereby amended to include the following areas as adversely affected by the disaster.

Primary Counties: Fairfax City, Fredericksburg City, Greene, Henrico, Shenandoah

All other information in the original declaration remains unchanged.

(Catalog of Federal Domestic Assistance Number 59008)

Lisa Lopez-Suarez,
Acting Associate Administrator for Disaster Assistance.

[FR Doc. 2016-09048 Filed 4-20-16; 8:45 am]

BILLING CODE 8025-01-P